INTERNATIONAL TRADE COMMISSION

[Investigation Nos. 731-TA-1229-1230 (Final)]

Monosodium Glutamate From China and Indonesia

Determination

On the basis of the record ¹ developed in the subject investigations, the United States International Trade Commission (“Commission”) determines,² pursuant to section 735(b) of the Tariff Act of 1930 (19 U.S.C. 1673d(b)) (“the Act”), that an industry in the United States is materially injured by reason of imports from China and Indonesia of monosodium glutamate, provided for in subheading 2922.42.10 of the Harmonized Tariff Schedule of the United States, that have been found by the Department of Commerce (“Commerce”) to be sold in the United States at less than fair value (LTFV).³

¹ The record is defined in sec. 207.2(f) of the Commission's Rules of Practice and Procedure (19 CFR 207.2(f)).

² Commissioner F. Scott Kieff did not participate in these investigations.

³ The Commission also finds that imports subject to Commerce's affirmative critical circumstances determination are not likely to undermine seriously the remedial effect of the antidumping duty order on China.

Background

The Commission instituted these investigations effective September 16, 2013, following receipt of a petition filed with the Commission and Commerce by Ajinomoto North America Inc. (“AJINA”), Itasca, Illinois. The final phase of the investigations was scheduled by the Commission following notification of preliminary determinations by Commerce that imports of monosodium glutamate from China and Indonesia were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of June 18, 2014 (79 FR 34782). The hearing was held in Washington, DC, on September 23, 2014, and all persons who requested the opportunity were permitted to appear in person or by counsel.

The Commission completed and filed its determinations in these investigations on November 10, 2014. The views of the Commission are contained in USITC Publication 4499 (November 2014), entitled Monosodium Glutamate from China and Indonesia: Investigation Nos. 731-TA-1229-1230 (Final).

Issued: November 10, 2014.
By order of the Commission.
Lisa R. Barton,
Secretary to the Commission.

[FR Doc. 2014-27041 Filed 11-14-14; 8:45 am]

BILLING CODE 7020-02-P